COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products and services to be furnished by nonprofit agencies employing persons who are blind or have other severe disabilities.

Comments Must be Received on or Before: July 17, 2005.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C. 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited.

Commenters should identify the statement(s) underlying the certification on which they are providing additional information.

End of Certification

The following products and services are proposed for addition to Procurement List for production by the nonprofit agencies listed:

Products

Case, Belt Weather Kit.

NSN: 8465-00-521-3057F—Case, Belt Weather Kit (used as kit components).

NSN: 8465-00-521-3057—Case, Belt Weather Kit.

NPA: The Shangri-La Corporation.

Contracting Activity: GSA, Southwest Supply Center, Fort Worth, TX.

Oxo Good Grip Spoon Spatula.

NSN: M.R. 868—Oxo Good Grip Spoon Spatula.

Oxo Good Grip Silicone Spatula.

NSN: M.R. 869—Oxo Good Grip Silicone Spatula.

NPA: Cincinnati Association for the Blind, Cincinnati, OH.

Contracting Activity: Defense Commissary Agency (DeCA), Fort Lee, VA.

Spice, Black Pepper.

NSN: 8950-01-E60-8236—Cracked, 16 oz metal container.

NSN: 8950-01-E60-7768—Ground, Gourmet, 18 oz metal container.

NSN: 8950-01-E60-7766—Ground, Gourmet, 16 oz metal can.

NSN: 8950-01-E60-8234—Cracked, 18 oz metal container.

NSN: 8950-01-E60-7765—Ground, Gourmet, 1.5 oz plastic container.

NSN: 8950-01-E60-8235—Cracked, 18 oz plastic container.

NSN: 8950-01-E60-7770—Ground, Gourmet, 5 lb plastic container.

NSN: 8950-01-E60-8237—Cracked, 16 oz plastic container.

NSN: 8950-01-E60-8238—Whole, 16 oz metal container.

NSN: 8950-01-E60-8239—Whole, 16 oz plastic container.

NSN: 8950-01-E60-8241—Whole, 18 oz plastic container.

NSN: 8950-01-E60-8240—Whole, 18 oz metal container.

NSN: 8950-01-E60-7769—Ground, Gourmet, 18 oz plastic container.

NPA: Continuing Developmental Services, Inc., Fairport, NY.

Contracting Activity: Defense Supply Center Philadelphia, Philadelphia, PA.

Services

Service Type/Location: Custodial Services, GSA—Central Heating & Refrigeration Plant, 13th & C Streets, SW., Washington, DC., GSA-Parking Lot, 12th & C Streets, SW., Washington, DC.

NPA: Anchor Mental Health Association (Anchor Services Workshop), Washington, DC.

Contracting Activity: GSA-Heating, Operation & Transmission Department, Washington, DC.

Service Type/Location: Custodial Services, Philadelphia Naval Business Center, Philadelphia, PA.

NPA: Elwyn, Inc., Aston, PA.

Contracting Activity: Naval Facilities Engineering Command/Northern Div, Philadelphia, PA.

Service Type/Location: Custodial Services, U.S. Coast Guard Marine Safety Office, 9640 Clinton Drive, Houston, TX.

NPA: On Our Own Services, Inc., Houston, TX.

Contracting Activity: U.S. Coast Guard Integrated Support Command, New Orleans, LA.

Service Type/Location: Custodial Services, USDA, Animal and Plant Health Inspection Service, Otis Methods Dev. Center, Building 1398, Otis ANGB, MA.

NPA: Nauset, Inc., Hyannis, MA.

Contracting Activity: USDA, Animal & Plant Health Inspection Service, Minneapolis, MN.

Service Type/Location: Document Destruction, VA Administration #2, 2455 W. Cheyenne, Suite 102, Las Vegas, NV, VA Administration, 1841 E. Craig Road, Suite B Warehouse, Las Vegas, NV; VA Central Clinic, 901 Rancho Lane, Las Vegas, NV; VA North Clinic, 916 W. Owens Avenue, Las Vegas, NV; VA West Clinic, 630 S. Rancho Road, Las Vegas, NV.

NPA: Opportunity Village Association for Retarded Citizens, Las Vegas, NV.

Contracting Activity: Department of Veteran's Affairs, VISN 22, Long Beach, Long Beach, CA.

Service Type/Location: Document Destruction, VA Colorado Springs Clinic, 25 Spruce Street, Colorado Springs, CO, VA Eastern Colorado Health Care System (ECHCS), 1055 Clermont Street, Denver, CO.

NPA: Bayaud Industries, Inc., Denver, CO.

Contracting Activity: Department of Veteran's Affairs, VISN 19 Consolidated Contracting Activity, Glendale, CO.

Service Type/Location: Document Destruction, VA Loma Linda Healthcare System, 11201 Benton Street, Loma Linda, CA.

NPA: Goodwill Industries of Southern California, Los Angeles, CA.

Contracting Activity: Department of Veteran's Affairs, VISN 22, Long Beach, Long Beach, CA.

Service Type/Location: Document Destruction, VA Salt Lake City Health Care System, 500 Foothill Blvd, Salt Lake City, UT.

NPA: Community Foundation for the Disabled, Inc., Salt Lake City, UT.

Contracting Activity: Department of Veteran's Affairs, VISN 19 Consolidated Contracting Activity, Glendale, CO.

Service Type/Location: Food Service Attendant, 115th Fighter Wing, Building 510, Truax Field, Wisconsin Air National Guard, Madison, WI.

NPA: Madison Area Rehabilitation Centers, Inc., Madison, WI.

Contracting Activity: Wisconsin Air National Guard, 115th MSG/MSC, Madison, WI.

Service Type/Location: Grounds Maintenance, U.S. Coast Guard Marine Safety Office, 9640 Clinton Drive, Houston, TX.

NPA: On Our Own Services, Inc., Houston, TX.

Contracting Activity: U.S. Coast Guard Integrated Support Command, New Orleans, LA.

Service Type/Location: Janitorial/Custodial, Altmeyer Federal Building, 6401 Security Blvd., Woodlawn, MD.

NPA: Sinai Hospital of Baltimore (Vocational Services Program), Baltimore, MD.

Contracting Activity: Social Security Administration, Baltimore, MD.

Sheryl D. Kennerly,
Director, Information Management.

[FR Doc. E5-3140 Filed 6-16-05; 8:45 am]

BILLING CODE 6353-01-P